DEPARTMENT OF VETERANS AFFAIRS

Solicitation of Nomination for Appointment to the Research Advisory Committee on Gulf War Veterans' Illnesses

ACTION: Notice.

SUMMARY: The Department of Veterans Affairs (VA) is seeking nominees to be considered for membership on the Research Advisory Committee on Gulf War Veterans' Illnesses (Committee). The Committee is authorized by Public Law 105-368, § 104 (the statute), to provide advice to the Secretary of Veterans Affairs (Secretary) on the proposed research studies, plans, and strategies related to understanding and treating the health consequences of military service in the Southwest Asia theatre of operations during the 1990-1991 Gulf War. In accordance with the statute and the Committee's current charter, the majority of the membership shall consist of non-Federal employees, appointed by the Secretary from the general public, serving as Special Government Employees. The Committee provides, not later than December 1 of each year, an annual report summarizing its activities for the preceding year. The Committee reports to the Secretary through the Under Secretary for Health. The Secretary appoints Committee members for a period of 2 to 3 years. A term of service for any member may not exceed 3 years. The Secretary may reappoint members for additional terms.

Self-nominations and nominations of non-Veterans will be accepted. Any letters of nomination from organizations or other individuals should accompany the package when it is submitted.

In accordance with OMB guidance, federally-registered lobbyists may not serve on Federal advisory committees in their individual capacity. Additional information regarding this issue can be found at: www.federalregister.gov/articles/2014/08/13/2014-19140/revised-guidance-on-appointment-of-lobbyists-to-federal-advisory-committees-boards-and-commissions.

SUPPLEMENTARY INFORMATION:

In accordance with the statute, the members of the Committee are appointed by the Secretary from the general public, including but not limited to:

(1) Gulf War Veterans;

(2) Representatives of such Veterans;

(3) Members of the medical and scientific communities representing disciplines, such as, but not limited to, epidemiology, immunology, environmental health, neurology, and toxicology.

The Committee meets at least once and up to three times annually. In accordance with Federal Travel Regulation, VA will cover travel expenses—to include per diem—for all members of the Committee, for any travel associated with official Committee duties. A copy of the Committee's most recent charter and a list of the current membership can be found at www.va.gov/ADVISORY/ or www.va.gov/rac-gwvi/.

The Department makes every effort to ensure that the membership of its advisory committees is fairly balanced, in terms of points of view represented. In the review process, consideration is given to nominees' potential to address the Committee's demographic needs (regional representation, race/ethnicity representation, professional expertise, war era service, gender, former enlisted or officer status, branch of service, etc.). Other considerations to promote a balanced membership include longevity of military service, significant deployment experience, ability to handle complex issues, experience running large organizations, and ability to contribute to the health care and benefits needs of Gulf War Veterans.

Nomination Package Requirements

Nomination packages must be typed (12 point font) and include: (1) A cover letter from the nominee, and (2) a current resume that is no more than four pages in length. The cover letter must summarize: The nominees' interest in serving on the committee and contributions she/he can make to the work of the committee; any relevant Veterans service activities she/he is currently engaged in; the military branch affiliation and timeframe of military service (if applicable). To promote a balanced membership, please provide information about your personal and professional qualifications and background that would give you a diverse perspective on Gulf War Veterans' matters. Finally, please include in the cover letter the nominee's complete contact information (name, address, email address, and phone number); and a statement confirming that she/he is not a Federally-registered lobbyist. The resume should show professional work experience, and Veterans service involvement, especially service that involves Gulf War Veterans' issues.

Nominations for membership on the Committee must be received by October 9, 2015, no later than 4:00 p.m., Eastern Standard Time. All nomination packages should be sent to:

Dr. Victor Kalasinsky, Veterans Health Administration, Department of Veterans Affairs, 810 Vermont Avenue NW., Washington, DC 20420.

Should you need additional information, you may contact Dr. Kalasinsky at the address above or by phone at (202) 443-5600. (NOTE: This is not a toll-free number.) You may also email the nomination package to victor.kalasinsky@va.gov or fax to (202) 495-6155.

Dated: September 1, 2015.
Rebecca Schiller,
Federal Advisory Committee Management Officer.

[FR Doc. 2015-22057 Filed 9-4-15; 8:45 am]

BILLING CODE 8320-01-P